DEPARTMENT OF ENERGY

Revision of a Currently Approved Information Collection for the Energy Efficiency and Conservation Block Grant Program Status Report

AGENCY: U.S. Department of Energy.

ACTION: Notice and request for comments.

SUMMARY: A 60-day notice and request for comments was published in the Federal Register on July 6, 2013 (78 FR 34089). No comments were received in response to this Notice.

This subsequent 30-day notice allows public comment on the final version of the information collection request.

The Department of Energy (DOE) invites public comment on a revision of a currently approved collection of information that DOE is developing for submission to the Office of Management and Budget (OMB) pursuant to the Paperwork Reduction Act of 1995. Comments are invited on: (a) Whether the revision of the currently approved collection of information is necessary for the proper performance of the functions of the agency, including whether the information shall have practical utility; (b) the accuracy of the agency's estimate of the reduced burden pertaining to the approved collection of information, including the validity of the methodology and assumptions used; (c) ways to further enhance the quality, utility, and clarity of the information being collected; and (d) ways to further minimize the burden regarding the collection of information on respondents, including through the use of automated collection techniques or other forms of information technology.

DATES: Comments regarding this revision to an approved information collection must be received on or before September 16, 2013. If you anticipate difficulty in submitting comments within that period, contact the person listed in ADDRESSES as soon as possible.

ADDRESSES: Written comments may be sent to: Christine Platt Patrick, EE-2K, U.S. Department of Energy, 1000 Independence Ave. SW., Washington, DC 20585, Email: Christine.Platt@ee.doe.gov.

FOR FURTHER INFORMATION CONTACT: Requests for additional information or copies of the information collection instrument and instructions should be directed to: Pam Bloch Mendelson, EE-2K, U.S. Department of Energy, 1000 Independence Ave. SW., Washington, DC 20585-1290, Phone: (202) 287-1857, Fax: (202) 287-1745, Email: Pam.Mendelson@ee.doe.gov.

Additional information and reporting guidance concerning the Energy Efficiency and Conservation Block Grant (EECBG) Program is available for review at the following Web sites: http://www1.eere.energy.gov/wip/recovery_act_guidance.html and http://www1.eere.energy.gov/wip/guidance.html.

SUPPLEMENTARY INFORMATION: This information collection request contains: (1) 1910-5150; (2) “Energy Efficiency and Conservation Block Grant (EECBG) Program Status Report”; (3) Revision of currently approved collection; (4) To collect information on:

OMB No.:

Information Collection Request Title:

Type of Review:

Purpose:

Annual Estimated Number of Respondents:

Annual Estimated Hourly Burden Number:

Annual Estimated Cost Burden:

Annual Estimated Federal Reporting and Recordkeeping Cost Burden: The status of grantee activities, expenditures, and results, to ensure that program funds are being used appropriately, effectively and expeditiously (especially important for Recovery Act funds); (5) 2,404; (6): 141,066; (7) $4,796,152; and (8) $222,480.

Statutory Authority: Title V, Subtitle E of the Energy Independence and Security Act (EISA), Public Law 110-140 as amended (42 U.S.C. 17151 et seq.), authorizes DOE to administer the EECBG program. All grant awards made under this program shall comply with applicable law including the Recovery Act (Pub. L. 111-5) and other authorities applicable to this program.

Issued in Washington, DC, August 9, 2013.
AnnaMaria Garcia,
Program Manager, Office of Weatherization and Intergovernmental, Programs Office of Energy Efficiency and Renewable Energy.

[FR Doc. 2013-19836 Filed 8-14-13; 8:45 am]

BILLING CODE 6450-01-P